FEDERAL COMMUNICATIONS COMMISSION

47 CFR Part 79

[CG Docket No. 05-231 and ET Docket No. 99-254; DA 09-1373]

Closed Captioning of Video Programming; Closed Captioning Requirements for Digital Television Receivers

AGENCY: Federal Communications Commission.

ACTION: Correcting amendments.

SUMMARY: The Federal Communications Commission is correcting a final rule that appeared in the Federal Register on January 13, 2009, 74 FR 1594. That document described new procedures for closed captioning complaints and requirements that video programming distributors provide contact information for handling closed captioning immediate concerns and complaints.

DATES: This rule contains information collection requirements subject to the Paperwork Reduction Act (PRA) of 1995, Public Law 104-13, that have not been approved by the Office of Management and Budget (OMB). The Commission will publish a separate document in the Federal Register announcing the effective date.

FOR FURTHER INFORMATION CONTACT: Amelia Brown, Disability Rights Office, Consumer and Governmental Affairs Bureau at (202) 418-2799 (voice), (202) 418-7804 (TTY), or e-mail at Amelia.Brown@fcc.gov.

SUPPLEMENTARY INFORMATION:

Background

In Closed Captioning of Video Programming; Closed Captioning Requirements for Digital Television Receivers, CG Docket No. 05-231, ET Docket No. 99-254, Declaratory Ruling, Order, and Notice of Proposed Rulemaking, FCC 08-255, published at 74 FR 1594, January 13, 2009, the Commission amended various of its, and adopted new, closed captioning rules.

Need for Correction

This correction is necessary to clarify new 47 CFR 79.1(i)(1).

List of Subjects in 47 CFR Part 79

Cable television operators, Multichannel video programming distributors (MVPDs), Satellite television service providers, Television broadcasters.

Accordingly, 47 CFR Part 79 is corrected by making the following correcting amendment:

PART 79—CLOSED CAPTIONING AND VIDEO DESCRIPTION OF VIDEO PROGRAMMING

1. The authority citation for Part 79 continues to read as follows:

Authority: 47 U.S.C. 151, 152(a), 154(i), 303, 307, 309, 310, 613.

2. Section 79.1 is amended by revising paragraph (i)(1) to read as follows:

§ 79.1 Closed captioning of video programming.

* * * * *

(i) * * *

(1) Video programming distributors shall make available contact information for the receipt and handling of immediate closed captioning concerns raised by consumers while they are watching a program. Programming distributors must designate a telephone number, fax number, and e-mail address for purposes of receiving and responding immediately to any closed captioning concerns. Distributors shall include this information on their Web sites (if they have a Web site), in telephone directories, and in billing statements (to the extent the distributor issues billing statements). Distributors shall keep this information current and update it to reflect any changes within 10 business days for Web sites, by the next billing cycle for billing statements, and by the next publication of directories. Video programming distributors should ensure that any staff reachable through this contact information has the capability to immediately respond to and address consumers' concerns. To the extent that a distributor has personnel available, either on site or remotely, to address any technical problems that may arise, consumers using this dedicated contact information must be able to reach someone, either directly or indirectly, who can address the consumer's captioning concerns. This provision does not require that distributors alter their hours of operation or the hours during which they have staffing available; at the same time, however, where staff is available to address technical issues that may arise during the course of transmitting programming, they also must be knowledgeable about and be able to address closed captioning concerns. In situations where a distributor is not immediately available, any calls or inquiries received, using this dedicated contact information, should be returned or otherwise addressed within 24 hours. In those situations where the captioning problem does not reside with the distributor, the staff person receiving the inquiry should refer the matter appropriately for resolution.”

* * * * *

Mark Stone,
Deputy Chief, Consumer and Governmental Affairs Bureau, Federal Communications Commission.

[FR Doc. E9-21796 Filed 9-10-09; 8:45 am]

BILLING CODE 6712-01-P